DEPARTMENT OF TRANSPORTATION

Federal Railroad Administration

[Docket No. RSAC-96-1, Notice No. 20]

Railroad Safety Advisory Committee; Notice of Meeting

AGENCY: Federal Railroad Administration (FRA), Department of Transportation (DOT).

ACTION: Notice of Railroad Safety Advisory Committee (“RSAC”) meeting.

SUMMARY: FRA announces the next meeting of the RSAC, a Federal Advisory Committee that develops railroad safety regulations through a consensus process. The meeting will address a wide range of topics, including possible adoption of specific recommendations for regulatory action.

DATES: The meeting of the RSAC is scheduled to commence at 9:30 a.m. and conclude at 4 p.m. on Friday, January 28, 2000.

ADDRESSES: The meeting of the RSAC will be held at The Wyndham Washington DC Hotel, 1400 M Street NW, Washington, DC, (202) 429-1700. The meeting is open to the public on a first-come, first-served basis and is accessible to individuals with disabilities. Sign language interpreters can be made available for individuals with hearing impediments.

FOR FURTHER INFORMATION CONTACT: Vicky McCully, RSAC Coordinator, FRA, 1120 Vermont Avenue, NW, Stop 25, Washington, DC 20590, (202) 493-6305 or Grady Cothen, Deputy Associate Administrator for Safety Standards and Program Development, FRA, 1120 Vermont Avenue, NW, Stop 25, Washington, DC 20590, (202) 493-6302.

SUPPLEMENTARY INFORMATION: Pursuant to section 10(a)(2) of the Federal Advisory Committee Act (Pub. L. 92-463), FRA is giving notice of a meeting of the Railroad Safety Advisory Committee (“RSAC”). The meeting is scheduled to begin at 9:30 a.m. and conclude at 4 p.m. on Wednesday, September 8, 1999. The meeting will be held at The Wyndham Hotel, 1400 M Street, NW, Washington, DC. All times noted are Eastern Standard Time.

RSAC was established to provide advice and recommendations to the FRA on railroad safety matters. The Committee consists of 48 individual representatives, drawn from among 27 organizations representing various rail industry perspectives, and 2 associate non-voting representatives from the agencies with railroad safety regulatory responsibility in Canada and Mexico. Staff of the National Transportation Safety Board and Federal Transit Administration also participate in an advisory capacity.

During this meeting, FRA may request the RSAC to accept tasks addressing safety issues related to rail operations on the Northeast Corridor and revising the regulations governing the protection of employees engaged in the inspection, testing, repair and servicing of rolling equipment (49 CFR part 218, subpart B). FRA intends to present a Planning Task examining the issue of qualification and certification of safety-critical employees to the RSAC for consideration and acceptance.

The RSAC will be briefed on the current status of activities of RSAC working groups and task forces responsible for carrying out tasks the RSAC has accepted involving locomotive cab working conditions, positive train control, the definition of reportable “train accident”, incorporation of provision for gage restraint measurement within the Track Safety Standards, and locomotive crashworthiness. The Committee may be asked to authorize mail ballot approval of one or more proposed rule documents involving these topics.

Informational briefings on general safety-related issues including Safety Assurance and Compliance Program initiatives, the findings and recommendations of the Switching Operations Fatality Analysis Working Group, Department of Transportation proposals for changes to alcohol and drug testing procedures, a recent National Transportation Safety Board recommendation on crew resource management training programs, and the proposed requirement concerning train horns at public highway-rail grade crossings, will be provided.

Please refer to the notice published in the Federal Register on March 11, 1996 (61 FR 9740) for more information about the RSAC.

Issued in Washington, DC.
Grady C. Cothen, Jr.,
Deputy Associate Administrator for Safety Standards and Program Development.

[FR Doc. 00-1055 Filed 1-14-00; 8:45 am]

BILLING CODE 4910-06-P